THE NATIONAL FOUNDATION FOR THE ARTS AND HUMANITIES

Institute of Museum and Library Services; Agency Information Collection Activities: Proposed Collection; Comment Request

ACTION: Notice.

SUMMARY: The Institute of Museum and Library Services as part of its continuing effort to reduce paperwork and respondent burden, conducts a preclearance consultation program to provide the general public and federal agencies with an opportunity to comment on proposed and/or continuing collections of information in accordance with the Paperwork Reduction Act of 1995 (PRA95) [44 U.S.C. 3508(c)(2)(A)]. This program helps to ensure that requested data can be provided in the desired format, reporting burden (time and financial resources) is minimized, collection instruments are clearly understood, and the impact of collection requirements on respondents can be properly assessed. Currently the Institute of Museum and Library Services is requesting comment on a generic package of grant applications, guidelines, interim and final reports.

A copy of the proposed information collection request can be obtained by contacting the individual listed below in the addresses section of this notice.

Comments should be sent to Mamie Bittner, Director of Public and Legislative Affairs, 1100 Pennsylvania Ave., NW, Washington, DC 20506.

DATES: Written comments must be submitted to the office listed in the addresses section below on or before September 13, 2000.

IMLS is particularly interested in comments which help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Send comments to: Mamie Bittner, Director of Legislative and Public Affairs, Institute of Museum and Library Services, 1100 Pennsylvania Ave., NW, Room 510, Washington, DC 20506.

SUPPLEMENTARY INFORMATION:

I. Background

P.L. 104-208 enacted on September 30, 1996 contains the former Museum Services Act and the Library Services and Technology Act, a reauthorization. P.L. 104-208 authorizes the Director of the Institute of Museum and Library Services to make grants to improve museum and library service throughout the United States.

Agency: Institute of Museum and Library Service.

Title: Application Guidelines, Interim and Final Performance Reports.

OMB Number: 3137-0029.

Agency Number: 3137.

Frequency: Annually.

Affected Public: State Library Administrative Agencies, museums, libraries.

Number of Respondents: 2084.

Estimated Time Per Respondent: 1-40 hours see chart.

Total Burden Hours: 32,136.

Total Annualized capital/startup costs: 0.

Total Annual Costs: 0.

CONTACT: Mamie Bittner, Director Public and Legislative Affairs, Institute of Museum and Library Services, 1100 Pennsylvania Avenue, NW, Washington, DC 20506, telephone (202) 606-8339.

Mamie Bittner,
Director Public and Legislative Affairs.

Title of publication | Burden hours | Number of respondents
Museum Assessment Program Grant and Application Guidelines | 4 | 180
MAP Final Performance Report | 1 | 180
Conservation Assessment Program Grant and Application Guidelines | 4 | 208
CAP Performance Report | 1 | 208
Conservation Project (CP) Grant Application and guidelines | 9 | 210
CP Interim Performance Report | 1 | 68
CP Final Performance Report | 1 | 68
General Operating Support Grant Application and Guidelines | 18 | 823
GOS final Performance Report | 1 | 202
National Leadership Grant Application and Guidelines for Museums and Libraries | 40 | 277
National Leadership Grant for Museums and Libraries Interim Report | 1 | 50
National Leadership Grant for Museums and Libraries Final Report | 2 | 50
Organizational Survey | .50 | 20
State Grants Annual Report | 18 | 56
Native American Library Services Application and guidelines—Technical Assistance | 2 | 50
Native American Library Services—Technical Assistance Final Report | 1 | 50
Native American Library Services Application and Guidelines—enhancement | 10 | 12
Native American Library Services—Enhancement Interim Report | 2 | 12
Native American Library Services Enhancement Final Report | 1 | 12
Native American Library Services Application and Guidelines—Basic | 2 | 200
Native American Library Services—Basic final report | 1 | 200

[FR Doc. 00-20527 Filed 8-11-00; 8:45 am]

BILLING CODE 7036-01-M